PENSION BENEFIT GUARANTY CORPORATION

Information Collection; OMB Review; Payment of Premiums

AGENCY: Pension Benefit Guaranty Corporation.

ACTION: Notice of request for OMB review and approval.

SUMMARY: A final rule appearing elsewhere in today's Federal Register adopts amendments to regulations of the Pension Benefit Guaranty Corporation (“PBGC”) on Premium Rates (29 CFR Part 4006) and Payment of Premiums (29 CFR Part 4007) and affects the collection of information under the premium payment regulation (OMB control number 1212-0009). The PBGC is submitting the revised collection of information, including revised premium forms and instructions reflecting these amendments, to the Office of Management and Budget (“OMB”) for review and approval under the Paperwork Reduction Act.

FOR FURTHER INFORMATION CONTACT: Deborah C. Murphy, Attorney, Office of the General Counsel, Pension Benefit Guaranty Corporation, 1200 K Street, NW., Washington, DC 20005-4026, 202-326-4024. (For TTY and TDD, call 800-877-8339 and request connection to 202-326-4024.)

SUPPLEMENTARY INFORMATION: An agency may not conduct or sponsor, and a person is not required to respond to, a collection of information unless it displays a currently valid OMB control number.

Section 4007 of Title IV of the Employee Retirement Income Security Act of 1974 (“ERISA”) requires the Pension Benefit Guaranty Corporation (“PBGC”) to collect premiums from pension plans covered under Title IV pension insurance programs. ERISA section 4006 prescribes the premium rates. Pursuant to ERISA sections 4006 and 4007, the PBGC has issued its regulations on Premium Rates (29 CFR Part 4006) and Payment of Premiums (29 CFR Part 4007). Part 4007 requires among other things that plans use PBGC forms and instructions in paying premiums. (The forms also include a certification of compliance with requirements under the PBGC's regulation on Disclosure to Participants (29 CFR Part 4011).) The control number assigned to this collection of information by the Office of Management and Budget (“OMB”) is 1212-0009. On October 23, 2000, the PBGC published a notice that it was requesting extension of OMB approval of this collection of information.

A final rule appearing elsewhere in today's Federal Register adopts amendments to Parts 4006 and 4007 of the PBGC's regulations and affects this collection of information. This notice informs the public that the PBGC is supplementing its pending request for extension of OMB approval of this collection of information by submitting to OMB for review and approval the revised collection of information, including revised premium forms and instructions reflecting these amendments.

Issued in Washington, DC, this 22nd day of November, 2000.
Stuart A. Sirkin,
Director, Corporate Policy and Research Department, Pension Benefit Guaranty Corporation.

[FR Doc. 00-30325 Filed 11-30-00; 8:45 am]

BILLING CODE 7708-01-P